DEPARTMENT OF HEALTH AND HUMAN SERVICES

Administration for Children and Families

[OMB #: 0970-0427]

Proposed Information Collection Activity; Head Start Program Information Report

AGENCY: Office of Head Start, Administration for Children and Families, U.S. Department of Health and Human Services.

ACTION: Request for public comments.

SUMMARY: The Administration for Children and Families (ACF) Office of Head Start (OHS) is proposing edits to and requesting a 3-year extension of the Head Start Program Information Report (PIR), Monthly Enrollment reporting instrument, and Center Locations and Contacts instrument (Office of Management and Budget (OMB) #0970-0427, expiration June 30, 2025). OHS has made updates to the PIR and Monthly Enrollment reporting instrument. There are more substantive changes to data collection topics being considered for future PIR information collections.

DATES: Comments due November 17, 2025.

ADDRESSES: In compliance with the requirements of the Paperwork Reduction Act of 1995, ACF is soliciting public comment on the specific aspects of the information collection described above. You can obtain copies of the proposed collection of information and submit comments by emailing infocollection@acf.hhs.gov. Identify all requests by the title of the information collection.

SUPPLEMENTARY INFORMATION:

Description: OHS is requesting an extension, with changes, of the Head Start PIR information collection. The following instruments are included in this information collection: (1) PIR, (2) Monthly Enrollment, and (3) Center Locations and Contacts. The PIR is used for federal program management purposes including to promote decision-making using data, is a major source of information used to respond to Congressional and public inquiries about Head Start programs and is used often by researchers. Monthly enrollment reporting supports oversight activities related to promoting full enrollment of programs. Center locations and contact reporting is used to help parents locate a program in their community. In general, these information collections together create key administrative datasets to support administration of the program. The proposed changes include new questions on the PIR on primary reasons children with an Individualized Education Program or Individualized Family Service Plan did not receive services, as well as the number of children who had a 504 Plan. These changes were identified as necessary to clarify reporting on children who receive additional education and related services. Additionally, one new question was added to the monthly enrollment reporting to capture the total number of children (and pregnant women in Early Head Start programs) that are on the program's waiting list on the last operating day of the requested month. This was added to provide OHS with information on waiting lists. Lastly, minor changes were made to these two instruments for clarification purposes. No changes are proposed to the Center Locations and Contacts information collection. There are more substantive changes to data collection topics being considered for future PIR information collections. For more information and to provide feedback, please visit https://headstart.gov/program-data/article/program-information-report-pir.

Respondents: Head Start Grant Recipients.

Annual Burden Estimates

The proposed revisions do not impact the estimated average burden per response.

Instrument | Annual number of respondents | Annual number of responses per respondent | Average burden hours per response | Annual burden hours
Head Start PIR | 1,600 | 2.25 | 1 | 3,600
Monthly Enrollment | 1,600 | 27 | 0.05 | 2,160
Center Locations and Contacts | 1,600 | 15 | 0.25 | 6,000

Estimated Total Annual Burden Hours: 11,760.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. In addition, the Department requests comments from the field on both proposed changes for the 2026-27 PIR, as well as potential changes for future information collections. Please see additional details regarding specific feedback requested at [placeholder for website]. Consideration will be given to comments and suggestions submitted within 60 days of this publication.

(Authority: 42 U.S.C. 9801 et seq.)

Mary C. Jones,
ACF/OPRE Certifying Officer.

[FR Doc. 2025-18012 Filed 9-16-25; 8:45 am]

BILLING CODE 4184-40-P